DEPARTMENT OF COMMERCE

Bureau of Industry and Security

15 CFR Parts 732, 734, 736, 740, 742, 744, 746, 748, 758, 770, 772, and 774

[Docket No. 231024-0253]

RIN 0694-XC101

Procedures for Access to the Public Briefing on Additional Export Controls on Certain Advanced Computing and Supercomputing Items; and Semiconductor Manufacturing Items

AGENCY: Bureau of Industry and Security, U.S. Department of Commerce.

ACTION: Procedures for accessing a public briefing on regulatory actions.

SUMMARY: On October 25, 2023, the Bureau of Industry and Security (BIS) is publishing in the Federal Register two interim final rules, “Implementation of Additional Export Controls: Certain Advanced Computing Items; Supercomputer and Semiconductor End Use; Updates and Corrections” and “Export Controls on Semiconductor Manufacturing Items,” which were both filed for public inspection at the Federal Register on October 18, 2023. BIS published an associated final rule, “Entity List Additions,” in the Federal Register on October 19, 2023. On November 6, 2023, Assistant Secretary for Export Administration Thea D. Rozman Kendler will conduct a public briefing on these two interim final rules and one final rule. This announcement provides details on the procedures for participating in the public briefing.

DATES:

Public briefing: The public briefing call will be held on November 6, 2023. The public briefing call will begin at 3 p.m. Eastern Daylight (EDT) local time and conclude at 5 p.m. EDT. The registration link for attending this event will be posted no later than October 30, 2023.

Deadline for submitting questions for the public briefing: Questions for the briefing must be received no later than November 1, 2023.

ADDRESSES: The registration link for attending this event will be posted on the BIS website at https://www.bis.doc.gov/index.php/about-bis/newsroom/2082. This briefing will be virtual; no in-person attendance is available.

Submitting questions: Questions for BIS for the public briefing may be submitted in writing to BIS_briefingquestions@bis.doc.gov no later than November 1, 2023. Please tag the questions submitted by adding “Public Briefing on AC/S and SME IFRs,” along with a brief description of the question, e.g., 744.23, AI, or SME, in the subject line.

Recording: Within 7 business days after this public briefing is completed, BIS will add a link to a recording, including captioning, of the public briefing to make the recording accessible to people with disabilities.

FOR FURTHER INFORMATION CONTACT: Karen Nies-Vogel, Director, Office of Exporter Services, Bureau of Industry and Security, Department of Commerce, phone: (202) 482-0436, email: BIS_briefingquestions@bis.doc.gov. For emails, include “Public Briefing on AC/S and SME IFRs” in the subject line.

SUPPLEMENTARY INFORMATION:

Background

On October 7, 2022, BIS released the interim final rule (IFR) “Implementation of Additional Export Controls: Certain Advanced Computing and Semiconductor Manufacturing Items; Supercomputer and Semiconductor End Use; Entity List Modification” (October 7 IFR) (87 FR 62186), which amended the Export Administration Regulations (EAR) to implement controls on advanced computing integrated circuits (ICs), computer commodities that contain such ICs, and certain semiconductor manufacturing items, and to make other EAR changes to implement appropriate related controls, including on certain “U.S. person” activities.

In October 2023, BIS took further regulatory actions to address the national security and foreign policy concerns identified in the October 7 IFR. Specifically, on October 25, 2023, BIS is publishing in the Federal Register two interim final rules, “Implementation of Additional Export Controls: Certain Advanced Computing Items; Supercomputer and Semiconductor End Use; Updates and Corrections” and “Export Controls on Semiconductor Manufacturing Items,” which were both filed for public inspection at the Federal Register on October 18, 2023. BIS published an associated final rule, “Entity List Additions,” in the Federal Register on October 19, 2023 (88 FR 71991).

On November 6, 2023, Assistant Secretary for Export Administration Thea D. Rozman Kendler will conduct a public briefing on these two interim final rules and one final rule. This announcement provides details on the procedures for attending the public briefing call. This public briefing call is part of the BIS outreach efforts that BIS will be conducting for these recent regulatory actions.

Scope of the Briefing and Process for Submitting Questions

The briefing conducted by Assistant Secretary Kendler will address important aspects of the two interim final rules and one final rule.

Note that no public comments will be accepted during the public briefing, which will be held virtually via audio only. Questions for BIS may be submitted in writing to BIS_briefingquestions@bis.doc.gov no later than November 1, 2023. Please tag the questions submitted by adding “Public Briefing on AC/S and SME IFRs,” along with a brief description of the question, e.g., 744.23, AI, or SME, in the subject line. Such questions will be addressed as time and subject matter permit. Questions that have general applicability may be addressed in frequently asked questions (FAQs) that BIS is developing for these two interim final rules. Questions or comments received for the public briefing will not be considered public comments on the two interim final rules. See the process in the next paragraph for how to submit comments on the two interim final rules.

Process for Submitting Comments on the Two Interim Final Rules

The two interim final rules: “Implementation of Additional Export Controls: Certain Advanced Computing Items; Supercomputer and Semiconductor End Use; Updates and Corrections” and “Export Controls on Semiconductor Manufacturing Items,” will be open for a sixty-day public comment period. Comments must be received by BIS no later than December 18, 2023. See the ADDRESSES section of the respective interim final rules for instructions on submitting written comments. BIS encourages interested parties to review the two interim final rules and provide any comments they believe may be warranted.

Matthew S. Borman,
Deputy Assistant Secretary for Export Administration.

[FR Doc. 2023-23810 Filed 10-25-23; 8:45 am]

BILLING CODE P